DEPARTMENT OF HOMELAND SECURITY

Bureau of Customs and Border Protection

19 CFR Part 122

Required Advance Electronic Presentation of Cargo Information: Revised Compliance Dates for Air Cargo Information

AGENCY: Customs and Border Protection, Department of Homeland Security.

ACTION: Announcement of revised compliance dates.

SUMMARY: This document advises the public of the revised implementation schedule set forth by the Bureau of Customs and Border Protection requiring the advance electronic transmission of information for cargo brought into the United States by air. The original date set for compliance was March 4, 2004. There will be staggered starting dates for compliance, with the earliest compliance date set for August 13, 2004.

DATES: The compliance date for the advance electronic transmission of inbound air cargo information published December 5, 2003 (68 FR 68140) is modified pursuant to § 122.48a(e)(2). The implementation schedule set forth in the SUPPLEMENTARY INFORMATION discussion establishes three different compliance dates when CBP will require electronic transmission of inbound air cargo manifest data, depending on the location of the airport where cargo arrives in the United States.

FOR FURTHER INFORMATION CONTACT: David M. King, Manifest and Conveyance Branch, (202) 927-1133.

SUPPLEMENTARY INFORMATION:

Background

Section 343(a) of the Trade Act of 2002, as amended (the Act; 19 U.S.C. 2071 note), required that the Bureau of Customs and Border Protection (CBP) promulgate regulations providing for the mandatory collection of electronic cargo information, by way of a CBP-approved electronic data interchange system, before the cargo is either brought into or sent from the United States by any mode of commercial transportation (sea, air, rail or truck). The cargo information required is that which is reasonably necessary to enable high-risk shipments to be identified for purposes of ensuring cargo safety and security and preventing smuggling pursuant to the laws enforced and administered by CBP.

On December 5, 2003, CBP published in the Federal Register (68 FR 68140) a final rule specifically intended to effectuate the provisions of the Act. In particular, a new § 122.48a was added to the CBP Regulations (19 CFR 122.48a) to implement the Act's provisions relating to inbound air commerce. Section 122.48a(a) describes the general requirement that for inbound aircraft with commercial cargo aboard, CBP must electronically receive information concerning the incoming cargo in advance of its arrival. Section 122.48a(e)(1) set a general compliance date of March 4, 2004 for those air carriers required to participate, and other parties electing to participate, in advance automated cargo information filing. However, pursuant to § 122.48a(e)(2) CBP has set forth a revised implementation schedule in order to complete necessary modifications to the approved electronic data interchange system, train CBP personnel at affected ports and complete certification testing of new participants.

The CBP-approved electronic data interchange system, through which the affected parties will be required to transmit and receive information pursuant to these regulatory provisions, is known as the Air Automated Manifest System (Air AMS). Although CBP and certain trade members presently participate in Air AMS on a voluntary basis, the final rule established procedures not currently supported by the existing system edits in Air AMS. Therefore, CBP has undertaken to modify certain critical aspects of Air AMS. CBP will introduce these changes by May 13, 2004, when a 90-day certification testing period begins for all parties who develop Air AMS communications.

Accordingly, it is necessary for CBP to revise the compliance dates for the advance electronic transmission of air cargo information as specified in the following implementation schedule. Compliance dates are staggered because they will allow CBP to deploy training resources for its personnel on a regional basis and prevent CBP from having to conduct certification testing for all new participants at one time.

Air AMS Implementation Schedule
Date: | Ports in the following locations:
August 13, 2004 | Connecticut, Delaware, District of Columbia, Florida, Georgia, Maine, Maryland, Massachusetts, New Hampshire, New Jersey, New York, North Carolina, Pennsylvania, Puerto Rico, Rhode Island, South Carolina, Vermont, Virginia, West Virginia.
October 13, 2004 | Alabama, Arkansas, Illinois, Indiana, Iowa, Kansas, Kentucky, Louisiana, Michigan, Minnesota, Mississippi, Missouri, Nebraska, New Mexico, Ohio, Oklahoma, South Dakota, Tennessee, Texas, Wisconsin.
December 13, 2004 | Alaska, Arizona, California, Colorado, Hawaii, Idaho, Montana, Nevada, North Dakota, Oregon, Utah, Washington.

Beginning on the dates set forth in the implementation schedule above, CBP will require electronic transmission of advance information for any cargo that arrives in the United States by air at a port of entry within one of the locations specified.

Technical Requirements

The technical specifications required for participation in Air AMS are detailed in the CBP publication Customs Automated Manifest Interface Requirements (CAMIR-AIR), currently available on the CBP website at: http://www.cbp.gov/xp/cgov/import/operations_support/automated_systems/ams/camir_air/.

Once the changes to Air AMS are introduced, CBP will update CAMIR-AIR with the new technical specifications. Those seeking to develop software based on the new system edits may begin certification testing of such software after May 13, 2004. Existing Air AMS participants and potential Air AMS participants will have until the revised compliance date to complete changes to their software or procure software that is compliant with the new specifications.

Dated: February 27, 2004.
Robert C. Bonner,
Commissioner, Customs and Border Protection.

[FR Doc. 04-4725 Filed 3-3-04; 8:45 am]

BILLING CODE 4820-02-P